DEPARTMENT OF COMMERCE

Foreign-Trade Zones Board

[S-17-2017]

Approval of Subzone Status; Orgill, Inc.; Post Falls, Idaho

On February 9, 2017, the Executive Secretary of the Foreign-Trade Zones (FTZ) Board docketed an application submitted by the Southwest Idaho Manufacturers' Alliance, grantee of FTZ 280, requesting subzone status subject to the existing activation limit of FTZ 280, on behalf of Orgill, Inc., in Post Falls, Idaho.

The application was processed in accordance with the FTZ Act and Regulations, including notice in the Federal Register inviting public comment (82 FR 10742-10743, February 15, 2017). The FTZ staff examiner reviewed the application and determined that it meets the criteria for approval. Pursuant to the authority delegated to the FTZ Board Executive Secretary (15 CFR 400.36(f)), the application to establish Subzone 280B is approved, subject to the FTZ Act and the Board's regulations, including Section 400.13, and further subject to FTZ 280's 2,000-acre activation limit.

Dated: March 30, 2017.
Andrew McGilvray,
Executive Secretary.

[FR Doc. 2017-06831 Filed 4-5-17; 8:45 am]

BILLING CODE 3510-DS-P